DEPARTMENT OF TRANSPORTATION

Federal Aviation Administration

14 CFR Part 39

[Docket No. FAA-2015-0075; Directorate Identifier 2014-NM-202-AD; Amendment 39-18461; AD 2016-07-16]

RIN 2120-AA64

Airworthiness Directives; The Boeing Company Airplanes

AGENCY: Federal Aviation Administration (FAA), DOT.

ACTION: Final rule.

SUMMARY: We are superseding Airworthiness Directive (AD) 2013-26-08 for certain The Boeing Company Model 737-600, -700, -700C, -800, -900, and -900ER series airplanes. AD 2013-26-08 required inspecting the orientation of both sides of the coil cord connector keyways of the number 2 windows on the flight deck; re-clocking the connector keyways, if necessary; and replacing the coil cord assemblies on both number 2 windows on the flight deck. This new AD adds airplanes to the applicability. AD 2013-26-08 resulted from reports of arcing and smoke at the left number 2 window in the flight deck. This AD was prompted by a determination that additional airplanes are subject to the same identified unsafe condition. We are issuing this AD to prevent arcing, smoke, and fire in the flight deck, which could lead to injuries to or incapacitation of the flightcrew.

DATES: This AD is effective May 12, 2016.

The Director of the Federal Register approved the incorporation by reference of a certain publication listed in this AD as of February 10, 2014 (79 FR 545, January 6, 2014).

ADDRESSES: For service information identified in this final rule, contact Boeing Commercial Airplanes, Attention: Data & Services Management, P. O. Box 3707, MC 2H-65, Seattle, WA 98124-2207; telephone 206-544-5000, extension 1; fax 206-766-5680; Internet https://www.myboeingfleet.com. You may view this service information at the FAA, Transport Airplane Directorate, 1601 Lind Avenue SW., Renton, WA. For information on the availability of this material at the FAA, call 425-227-1221. This service information is also available on the Internet at http://www.regulations.gov by searching for and locating Docket No. FAA-2015-0075.

Examining the AD Docket

You may examine the AD docket on the Internet at http://www.regulations.gov by searching for and locating Docket No. FAA-2015-0075; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Frank Carreras, Aerospace Engineer, Systems and Equipment Branch, ANM-130S, FAA, Seattle Aircraft Certification Office (ACO), 1601 Lind Avenue SW., Renton, WA 98057-3356; phone: 425-917-6442; fax: 425-917-6590; email: frank.carreras@faa.gov.

SUPPLEMENTARY INFORMATION:

Discussion

We issued a notice of proposed rulemaking (NPRM) to amend 14 CFR part 39 to supersede AD 2013-26-08, Amendment 39-17717 (79 FR 545, January 6, 2014) (“AD 2013-26-08”). AD 2013-26-08 applied to certain The Boeing Company Model 737-600, -700, -700C, -800, -900, and -900ER series airplanes. The NPRM published in the Federal Register on January 23, 2015 (80 FR 3527) (“the NPRM”). AD 2013-26-08 resulted from reports of arcing and smoke at the left number 2 window in the flight deck. The NPRM was prompted by a determination that additional airplanes are subject to the same identified unsafe condition. The NPRM proposed to continue to require inspecting the orientation of both sides of the coil cord connector keyways of the number 2 windows on the flight deck; re-clocking the connector keyways, if necessary; and replacing the coil cord assemblies on both number 2 windows on the flight deck. The NPRM also proposed to add airplanes to the applicability. We are issuing this AD to prevent arcing, smoke, and fire in the flight deck, which could lead to injuries to or incapacitation of the flightcrew.

Comments

We gave the public the opportunity to participate in developing this AD. The following presents the comments received on the NPRM and the FAA's response to each comment.

Support for the NPRM

Boeing stated that it supports the NPRM as written.

Effect of Winglets on Accomplishment of the Proposed Actions

Aviation Partners Boeing stated that the installation of winglets per Supplemental Type Certificate (STC) ST00830SE (http://rgl.faa.gov/Regulatory_and_Guidance_Library/rgstc.nsf/0/184de9a71ec3fa5586257eae00707da6/$FILE/ST00830SE.pdf) does not affect the accomplishment of the manufacturer's service instructions.

We agree with the commenter that STC ST00830SE (http://rgl.faa.gov/Regulatory_and_Guidance_Library/rgstc.nsf/0/184de9a71ec3fa5586257eae00707da6/$FILE/ST00830SE.pdf) does not affect the accomplishment of the manufacturer's service instructions. Therefore, the installation of STC ST00830SE does not affect the ability to accomplish the actions required by this AD. We have not changed this AD in this regard.

Comment Regarding Applicability

United Airlines (UAL) stated that it found it curious that the technical compliance mandated in AD 2013-26-08 was per Boeing Special Attention Service Bulletin 737-30-1058, Revision 5, dated April 24, 2013, whereas the airplane applicability in AD 2013-26-08 was based on Boeing Special Attention Service Bulletin 737-30-1058, Revision 4, dated November 3, 2011. UAL stated that, consequently, it anticipated further regulatory action that would include the Group 3 airplanes specified in Boeing Special Attention Service Bulletin 737-30-1058, Revision 5, dated April 24, 2013, and has acted accordingly. UAL also stated that, since it was already planning accomplishment on the Group 3 airplanes, the only impact to it will be to change the AD number on the compliance documentation. UAL stated that it has no further comments at this time.

We acknowledge UAL's comment. No change to this AD is necessary.

Conclusion

We reviewed the relevant data, considered the comments received, and determined that air safety and the public interest require adopting this AD as proposed except for minor editorial changes. We have determined that these minor changes:

• Are consistent with the intent that was proposed in the NPRM for correcting the unsafe condition; and

• Do not add any additional burden upon the public than was already proposed in the NPRM.

Costs of Compliance

We estimate that this AD affects 718 airplanes of U.S. registry.

We estimate the following costs to comply with this AD:

Estimated Costs
Action | Labor cost | Parts cost | Cost per product | Number of airplanes | Cost on U.S. operators
Keyway inspection and installation (Group 1, Configuration 1 airplanes) [actions retained from AD 2013-26-08] | 6 work-hours × $85 per hour = $510 | $1,608 | $2,118 | 712 | $1,508,016.
Adjustment of receptacles (Group 1, Configuration 2, Group 2, and Group 3 airplanes) [actions retained from AD 2013-26-08] | 4 work-hours × $85 per hour = $340 | 0 | 340 | 410 | 139,400.
Coil cord inspection (Group 1, Configuration 3, and Group 2 airplanes) [actions retained from AD 2013-26-08] | 1 work-hour × $85 per hour = $85 per coil cord | 0 | 85 per coil cord | 404 | 34,340 per coil cord.

We estimate the following costs to do any necessary replacements that would be required based on the results of the coil cord inspection. We have no way of determining the number of aircraft that might need these replacements:

On-Condition Costs
Action | Labor cost | Parts cost | Cost per product
Replacement | 3 work-hours × $85 per hour = $255 per coil cord assembly | $1,735 per coil cord assembly | $1,990 per coil cord assembly.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-26-08, Amendment 39-17717 (79 FR 545, January 6, 2014), and adding the following new AD:

2016-07-16 The Boeing Company: Amendment 39-18461; Docket No. FAA-2015-0075; Directorate Identifier 2014-NM-202-AD.

(a) Effective Date

This AD is effective May 12, 2016.

(b) Affected ADs

This AD replaces AD 2013-26-08, Amendment 39-17717 (79 FR 545, January 6, 2014) (“AD 2013-26-08”).

(c) Applicability

This AD applies to The Boeing Company Model 737-600, -700, -700C, -800, -900, and -900ER series airplanes, certificated in any category, as identified in Boeing Special Attention Service Bulletin 737-30-1058, Revision 5, dated April 24, 2013.

(d) Subject

Air Transport Association (ATA) of America Code 30, Ice and Rain Protection.

(e) Unsafe Condition

This AD was prompted by reports of arcing and smoke at the left number 2 window in the flight deck. We are issuing this AD to prevent arcing, smoke, and fire in the flight deck, which could lead to injuries to or incapacitation of the flightcrew.

(f) Compliance

Comply with this AD within the compliance times specified, unless already done.

(g) Retained Inspection and Replacement for Group 1, Configuration 1, Airplanes

This paragraph restates the requirements of paragraph (g) of AD 2013-26-08, with no changes. For airplanes identified as Group 1, Configuration 1, in Boeing Special Attention Service Bulletin 737-30-1058, Revision 5, dated April 24, 2013: Within 48 months after February 10, 2014 (the effective date of AD 2013-26-08), do the actions specified in paragraphs (g)(1) and (g)(2) of this AD.

(1) Do a general visual inspection of the orientation of the coil cord connector keyways on the captain's and first officer's sides of the flight compartment, in accordance with the Accomplishment Instructions of Boeing Special Attention Service Bulletin 737-30-1058, Revision 5, dated April 24, 2013, except as specified in paragraph (k) of this AD. If the orientation is not at the specified position, before further flight, turn the receptacle connector to the correct position, in accordance with the Accomplishment Instructions of Boeing Special Attention Service Bulletin 737-30-1058, Revision 5, dated April 24, 2013, except as specified in paragraph (k) of this AD.

(2) Replace the coil cords with new coil cords on both sides of the flight deck, in accordance with the Accomplishment Instructions of Boeing Special Attention Service Bulletin 737-30-1058, Revision 5, dated April 24, 2013, except as specified in paragraph (k) of this AD.

(h) Retained Receptacle Replacement for Group 1, Configuration 2, and Group 2, Configuration 1, Airplanes

This paragraph restates the requirements of paragraph (h) of AD 2013-26-08, with no changes. For airplanes identified as Group 1, Configuration 2, and Group 2, Configuration 1, in Boeing Special Attention Service Bulletin 737-30-1058, Revision 5, dated April 24, 2013: Within 48 months after February 10, 2014 (the effective date of AD 2013-26-08), install the receptacle connector with changed keyway position on both sides of the flight deck, in accordance with the Accomplishment Instructions of Boeing Special Attention Service Bulletin 737-30-1058, Revision 5, dated April 24, 2013, except as specified in paragraph (k) of this AD.

(i) Retained Coil Cord Inspection and Corrective Action

This paragraph restates the requirements of paragraph (i) of AD 2013-26-08, with no changes. For airplanes identified as Group 1, Configuration 3, and Group 2, Configuration 2, in Boeing Special Attention Service Bulletin 737-30-1058, Revision 5, dated April 24, 2013: Within 48 months after February 10, 2014 (the effective date of AD 2013-26-08), do a general visual inspection for rubbing damage of the coil cord on the captain's and first officer's sides of the flight compartment, in accordance with the Accomplishment Instructions of Boeing Special Attention Service Bulletin 737-30-1058, Revision 5, dated April 24, 2013, except as specified in paragraph (k) of this AD. If any rubbing damage is found: Before further flight, replace the coil cord with a new coil cord, in accordance with the Accomplishment Instructions of Boeing Special Attention Service Bulletin 737-30-1058, Revision 5, dated April 24, 2013, except as specified in paragraph (k) of this AD.

(j) New Requirements of This AD: Receptacle Replacement for Group 3 Airplanes

For airplanes identified as Group 3 in Boeing Special Attention Service Bulletin 737-30-1058, Revision 5, dated April 24, 2013: Within 48 months after the effective date of this AD, install the receptacle connector with changed keyway position on both sides of the flight deck, in accordance with the Accomplishment Instructions of Boeing Special Attention Service Bulletin 737-30-1058, Revision 5, dated April 24, 2013, except as specified in paragraph (k) of this AD.

(k) Exceptions to Boeing Special Attention Service Bulletin 737-30-1058, Revision 5, dated April 24, 2013

(1) This paragraph restates the provisions of paragraph (j)(1) of AD 2013-26-08, with no changes. In the circuit breaker tables of the Work Instructions of Boeing Special Attention Service Bulletin 737-30-1058, Revision 5, dated April 24, 2013, the panel number for circuit breaker C00393 is incorrectly identified as “P6-12.” The correct panel number reference for circuit breaker C00393, “WINDOW HEAT POWER RIGHT SIDE,” is P6-11.

(2) This paragraph restates the provisions of paragraph (j)(2) of AD 2013-26-08, with no changes. In paragraph 3.B. of the Work Instructions of Boeing Special Attention Service Bulletin 737-30-1058, Revision 5, dated April 24, 2013, the description for Part 3 of the Work Instructions is identified as “PART 3: RECEPTACLE CONNECTOR POSITION CHANGE,” which is incorrect. The correct description for Part 3 of the Work Instructions is “PART 3: COIL CORD INSPECTION AND REPLACEMENT IF DAMAGE IS FOUND.”

(3) This paragraph restates the provisions of paragraph (j)(3) of AD 2013-26-08, with no changes. In Figures 13 and 14, in paragraph 3.B. of the Work Instructions of Boeing Special Attention Service Bulletin 737-30-1058, Revision 5, dated April 24, 2013, the note before the step tables misidentifies certain parts and airplane groups. The note should read:

Note: Group 1 and Group 2 airplanes have the connector receptacle identified as D10572. Group 3 airplanes have the connector receptacle identified as D10560. Except for Group 1 airplanes, a wire diagram change is not necessary and not shown in this service bulletin.

(l) Credit for Previous Actions

This paragraph restates the provisions of paragraph (k) of AD 2013-26-08, with no changes. This paragraph provides credit for the replacement required by paragraph (g)(2) of this AD, if the replacement was performed before February 10, 2014 (the effective date of AD 2013-26-08), using the service information specified in paragraph (l)(1), (l)(2), (l)(3), (l)(4), or (l)(5) of this AD, provided that the actions required by paragraph (h) of this AD were done as specified in Boeing Special Attention Service Bulletin 737-30-1058, Revision 4, dated November 3, 2011; or Boeing Special Attention Service Bulletin 737-30-1058, Revision 5, dated April 24, 2013; for airplanes in Group 1, Configuration 2, and Group 2.

(1) Boeing Service Bulletin 737-30-1058, dated July 27, 2006, which is not incorporated by reference in this AD.

(2) Boeing Service Bulletin 737-30-1058, Revision 1, dated June 18, 2007, which is not incorporated by reference in this AD.

(3) Boeing Service Bulletin 737-30-1058, Revision 2, dated February 13, 2009, which is not incorporated by reference in this AD.

(4) Boeing Special Attention Service Bulletin 737-30-1058, Revision 3, dated July 7, 2010, which is not incorporated by reference in this AD.

(5) Boeing Special Attention Service Bulletin 737-30-1058, Revision 4, dated November 3, 2011, which was previously incorporated by reference on February 10, 2014 (79 FR 545, January 6, 2014).

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD. Information may be emailed to: 9-ANM-Seattle-ACO-AMOC-Requests@faa.gov.

(2) Before using any approved AMOC, notify your appropriate principal inspector, or lacking a principal inspector, the manager of the local flight standards district office/certificate holding district office.

(3) AMOCs approved for AD 2013-26-08, are approved as AMOCs for the corresponding provisions of this AD.

(4) For airplanes identified as Group 3 in Boeing Special Attention Service Bulletin 737-30-1058, Revision 5, dated April 24, 2013, AMOCs approved for the actions required by paragraph (h) of AD 2013-26-08, are approved as AMOCs for the corresponding provisions of paragraph (j) of this AD.

(n) Related Information

(1) For more information about this AD, contact Frank Carreras, Aerospace Engineer, Systems and Equipment Branch, ANM-130S, FAA, Seattle Aircraft Certification Office (ACO), 1601 Lind Avenue SW., Renton, WA 98057-3356; phone: 425-917-6442; fax: 425-917-6590; email: frank.carreras@faa.gov.

(2) Service information identified in this AD that is not incorporated by reference is available at the addresses specified in paragraphs (o)(4) and (o)(5) of this AD.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on February 10, 2014 (79 FR 545, January 6, 2014).

(i) Boeing Special Attention Service Bulletin 737-30-1058, Revision 5, dated April 24, 2013.

(ii) Reserved.

(4) For Boeing service information identified in this AD, contact Boeing Commercial Airplanes, Attention: Data & Services Management, P. O. Box 3707, MC 2H-65, Seattle, WA 98124-2207; telephone 206-544-5000, extension 1; fax 206-766-5680; Internet https://www.myboeingfleet.com.

(5) You may view this service information at FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on March 24, 2016.
Michael Kaszycki,
Acting Manager, Transport Airplane Directorate, Aircraft Certification Service.

[FR Doc. 2016-07576 Filed 4-6-16; 8:45 am]

BILLING CODE 4910-13-P